NATIONAL SCIENCE FOUNDATION

Advisory Committee for Engineering; Notice of Meeting

In accordance with the Federal Advisory Committee Act (Pub. L. 92-463, as amended), the National Science Foundation (NSF) announces the following meeting:

NAME AND COMMITTEE CODE: Advisory Committee for Engineering #1170.

DATE AND TIME: April 18, 2017; 12:15 p.m. to 5:30 p.m. April 19, 2017; 8:30 a.m. to 12:50 p.m.

PLACE: National Science Foundation, 4201 Wilson Boulevard, Room 1235, Arlington, Virginia 22230.

TYPE OF MEETING: Open.

CONTACT PERSON: Evette Rollins, National Science Foundation, 4201 Wilson Boulevard, Suite 505, Arlington, Virginia 22230; 703-292-8300.

PURPOSE OF MEETING: To provide advice, recommendations and counsel on major goals and policies pertaining to engineering programs and activities.

Agenda

Tuesday, April 18, 2017

• Directorate for Engineering Report

• Reports from Advisory Committee Liaisons

• Perspective from the Director's Office

• Break-out Session: Innovation and Entrepreneurship in EFRI, PFI and I-Corps

• Report from Break-out Session

Wednesday, April 19, 2017

• Joint Session: Engineering (ENG) and Advisory Committee for Cyberinfrastructure (ACCI)

• Advanced Cyberinfrastructure to Support Research: Program Direction, Opportunities, and Challenges

• Engineering Challenges and Cyberinfrastructure: Today and Tomorrow

• Moderated Discussion: Future Cyberinfrastructure Strategy and Needs

• Paths Forward Based on ENG-ACCI Discussion

• NSF Big Ideas: Harnessing the Data Revolution

• Roundtable on Strategic Recommendations for ENG

Dated: March 20, 2017.
Crystal Robinson,
Committee Management Officer.

[FR Doc. 2017-05773 Filed 3-22-17; 8:45 am]

BILLING CODE 7555-01-P